DEPARTMENT OF DEFENSE

Department of the Navy

Withdrawal of Surplus Land at a Military Installation Designated for Realignment: Naval Air Station (NAS), Key West, FL

AGENCY: Department of the Navy, DOD.

ACTION: Notice.

SUMMARY: This notice provides information on withdrawal of surplus property at NAS Key West, FL.

FOR FURTHER INFORMATION CONTACT: Richard A. Engel, Head, BRAC Real Estate Section, Naval Facilities Engineering Command, 1322 Patterson Ave. SE., Suite 1000, Washington Navy Yard, DC 20374-5065, telephone (202) 685-9203, or E. R. Nelson, Director, Real Estate Department, Southern Division, Naval Facilities Engineering Command, P.O. Box 190010, 2155 Eagle Drive, North Charleston, SC 29419-9010, telephone (843) 820-7494.

SUPPLEMENTARY INFORMATION: In 1995, NAS Key West, FL, was designated for realignment pursuant to the Defense Base Closure and Realignment Act of 1990 (DBCRA), Public Law 101-510, as amended. Pursuant to this designation, in April of 1996, approximately 168.14 acres of land and related facilities at this installation were declared surplus to the Federal Government and available for use by (a) non-Federal public agencies pursuant to various statutes which authorize conveyance of property for public projects, and (b) homeless provider groups pursuant to the Stewart B. McKinney Homeless Assistance Act (42 U.S.C. 11411), as amended. Approximately 35 acres of land improved with 10 buildings have been requested for transfer by other Federal agencies and was not included within the 168.14 acres. On July 3, 1997, a second determination was made to withdraw approximately 16 acres of improved and unimproved fee simple land at NAS Key West, FL, known as the Trumbo Point Annex Tank Farm. A third determination was made on December 20, 1999, to withdraw 3.54 acres of improved and unimproved fee simple land at NAS Key West, FL, known as the Seminole Battery. A fourth determination was made on May 2, 2003, to withdraw land and facilities previously reported as surplus that are now required by the Federal Government. This withdrawal is required to satisfy new military requirements and security concerns.

Notice of Surplus Property: Pursuant to paragraph (7)(B) of Section 2905(b) of the DBCRA, as amended by the Base Closure Community Redevelopment and Homeless Assistance Act of 1994, the following information is regarding the withdrawal of previously reported surplus property at NAS Key West, FL, which was published in 61 FR 19614, May 2, 1996.

Withdrawn Property Description: The following is a description of land and facilities at NAS Key West, FL, that are withdrawn from surplus by the Federal government.

Land: Approximately 16.1 acres of improved and unimproved fee simple land at NAS Key West, FL, known as Truman Annex. This also includes the berthing wharf known as the Mole Pier.

Buildings: The following is a summary of the facilities located on the above-described land. General Warehouses: three structures of approximately 34,120 square feet.

Dated: May 15, 2003.
P.C. LeBlanc,
Lieutenant Commander, Judge Advocate General's Corps, U.S. Navy, Alternate Federal Register Liaison Officer.

[FR Doc. 03-12704 Filed 5-20-03; 8:45 am]

BILLING CODE 3810-FF-P